INTERNATIONAL TRADE COMMISSION

[Investigation Nos. 701-TA-528-529 and 731-TA-1264-1268 (Final)]

Certain Uncoated Paper From Australia, Brazil, China, Indonesia, and Portugal; Determinations

On the basis of the record ¹ developed in the subject investigations, the United States International Trade Commission (“Commission”) determines, pursuant to the Tariff Act of 1930 (“the Act”), that an industry in the United States is materially injured by reason of imports of certain uncoated paper from Australia, Brazil, China, Indonesia, and Portugal, provided for in subheadings 4802.56 and 4802.57 of the Harmonized Tariff Schedule of the United States, that have been found by the Department of Commerce (“Commerce”) to be sold in the United States at less than fair value (“LTFV”) and to be subsidized by the governments of China and Indonesia.²

¹ The record is defined in sec. 207.2(f) of the Commission's Rules of Practice and Procedure (19 CFR 207.2(f)).

² The Commission also finds that imports subject to Commerce's affirmative critical circumstances determination are not likely to undermine seriously the remedial effect of the antidumping duty order on certain uncoated paper from Australia.

Background

The Commission, pursuant to sections 705(b) and 735(b) of the Tariff Act of 1930 (19 U.S.C. 1671d(b) and 19 U.S.C. 1673d(b)), instituted these investigations effective January 21, 2015, following receipt of a petition filed with the Commission and Commerce by United Steel, Paper and Forestry, Rubber, Manufacturing, Energy, Allied Industrial and Service Workers International Union (Pittsburgh, Pennsylvania); Domtar Corporation (Ft. Mill, South Carolina); Finch Paper LLC (Glen Falls, New York); P.H. Glatfelter Company (York, Pennsylvania); and Packaging Corporation of America (Lake Forest, Illinois). The Commission scheduled the final phase of the investigations following notification of a preliminary determinations by Commerce that imports of certain uncoated paper from Australia, Brazil, China, Indonesia, and Portugal were dumped within the meaning of 733(b) of the Act (19 U.S.C. 1673b(b)) and were subsidized by the governments of China and Indonesia within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on September 29, 2015 (80 FR 58503). The hearing was held in Washington, DC, on January 7, 2016, and all persons who requested the opportunity were permitted to appear in person or by counsel.

The Commission made these determinations pursuant to sections 705(b) and 735(b) of the Tariff Act of 1930 (19 U.S.C. 1671d(b) and 19 U.S.C. 1673d(b)). It completed and filed its determinations in these investigations on February 22, 2016. The views of the Commission are contained in USITC Publication 4592 (February 2016), entitled Certain Uncoated Paper from Australia, Brazil, China, Indonesia, and Portugal: Investigation Nos. 701-TA-528-529 and 731-TA-1264-1268 (Final).

By order of the Commission.
Issued: February 23, 2016.
Lisa R. Barton,
Secretary to the Commission.

[FR Doc. 2016-04128 Filed 2-25-16; 8:45 am]

BILLING CODE 7020-02-P